NATIONAL ARCHIVES AND RECORDS ADMINISTRATION

Privacy Act of 1974, as Amended; System of Records Notices

AGENCY: National Archives and Records Administration (NARA).

ACTION: Notice of the establishment of new privacy system of record, NARA 44.

SUMMARY: The National Archives and Records Administration (NARA) proposes to add a system of records to its existing inventory of systems subject to the Privacy Act of 1974, as amended (5 U.S.C. 552(a)) (“Privacy Act”). In this notice, NARA publishes NARA 44, Reasonable Accommodation Request Records.

DATES: This new system of records, NARA 44, will become effective November 2, 2012 without further notice unless comments are received that result in further revision. NARA will publish a new notice if the effective date is delayed to review comments or if changes are made based on comments received. To be assured of consideration, comments should be received on or before the date above.

ADDRESSES: You may submit comments, identified by SORN number NARA 44, by one of the following methods:

• Federal e-Rulemaking Portal: http://www.regulations.gov. Follow the instructions for submitting comments.

• Fax: 301-837-0293.

• Mail: Kimberly Keravuori, Strategy Division (SP), Room 4100, National Archives and Records Administration, 8601 Adelphi Road, College Park, MD 20740-6001.

FOR FURTHER INFORMATION CONTACT: Ismael Martinez, Equal Employment Office Director, National Archives and Records Administration, 8601 Adelphi Road, College Park, MD 20740-6001. Telephone: 301-837-1849. Fax: 301-837-0869.

SUPPLEMENTARY INFORMATION: The notice for this system of records states the name and the location of the record system, the authority for and manner of its operation, the categories of individuals that it covers, the types of records that it contains, the sources of information in the records, and the proposed “routine uses” of the system of records. The notice also includes the business address of the NARA official who will inform interested persons of the procedures whereby they may gain access to, and correct, records pertaining to themselves.

The Privacy Act provides certain safeguards for an individual against an invasion of personal privacy by requiring Federal agencies to disseminate any record of identifiable personal information in a manner that assures that such action is for a necessary and lawful purpose, that the information is current and accurate for its intended use, and that adequate safeguards are provided to prevent misuse of such information. NARA intends to follow these principles in transferring information to another agency or individual as a “routine use,” including assurance that the information is relevant for the purposes for which it is transferred.

Dated: September 25, 2012.
David S. Ferriero,
Archivist of the United States.

NARA Privacy Act Systems: NARA 44

SYSTEM NAME:

Reasonable Accommodation Request Records.

SYSTEM LOCATION:

The reasonable accommodation request files are maintained in the Office of Equal Employment at the National Archives in College Park. Address: 8601 Adelphi Road, Room 4417, College Park, MD 20740.

CATEGORIES OF INDIVIDUALS COVERED BY THE SYSTEM:

Individuals covered by this system include current and former NARA employees and applicants who have requested accommodation pursuant to NARA policy for processing reasonable accommodation requests for employees and applicants with disabilities.

CATEGORIES OF RECORDS IN THE SYSTEM:

Reasonable accommodation request records may contain some or all of the following records: requests for reasonable accommodation including medical records, notes or records made during consideration of requests, and decisions on requests. These records may contain: the employee or applicant's name, email address, mailing address, phone number, medical information, and any additional information provided by the employee related to the processing of the request. If an accommodation request is made by a family member, health professional, or representative of a NARA employee or applicant, the records may also contain the requestor's name, email address, mailing address, phone number, and any additional information provided by the requestor relating to the processing of the request.

AUTHORITY FOR MAINTENANCE OF THE SYSTEM:

5 U.S.C. 552a(a)(3), as amended.

44 U.S.C. 2104(a), as amended.

The Americans with Disabilities Act of 1990, as amended.

29 U.S.C. 791.

Executive Order 13164.

29 CFR part 1614.

ROUTINE USES OF RECORDS MAINTAINED IN THE SYSTEM, INCLUDING CATEGORIES OF USERS AND THE PURPOSES OF SUCH USES:

The Diversity Program Manager (DPM) at NARA maintains the information relating to any reasonable accommodation request. Routine uses A, B, C, D, E, F, G, and H listed in Appendix A apply to this system.

POLICIES AND PRACTICES FOR STORING, RETRIEVING, ACCESSING, RETAINING, AND DISPOSING OF RECORDS IN THE SYSTEM:

STORAGE:

Paper and electronic records.

RETRIEVABILITY:

Information in these case files may be retrieved by the name of the employee or applicant, or request number.

SAFEGUARDS:

During business hours, paper records are maintained in areas accessible only to authorized NARA personnel. Electronic records are accessible via passwords from workstations located in attended offices or through a secure remote access network. After business hours, buildings have security guards and/or secured doors, and all entrances are monitored by electronic surveillance equipment.

RETENTION AND DISPOSAL:

NARA reasonable accommodation request records are temporary records and are destroyed in accordance with the disposition instructions in the NARA Records Schedule supplement to FILES 203, the NARA Files Maintenance and Records Disposition Manual. Individuals may request a copy of the disposition instructions from the NARA Privacy Act Officer.

SYSTEM MANAGER AND ADDRESS:

For these case files, the system manager is Ismael Martinez, Equal Employment Office Director, National Archives and Records Administration, 8601 Adelphi Road, College Park, MD 20740-6001. Telephone: 301-837-1849. Fax: 301-837-0869.

NOTIFICATION PROCEDURE:

Individuals interested in inquiring about their records should notify the NARA Privacy Act Officer at the Privacy Act Office, Room 3110, National Archives and Records Administration, 8601 Adelphi Road, College Park, MD 20740-6001.

RECORDS ACCESS PROCEDURES:

Individuals who wish to gain access to their records should notify the NARA Privacy Act Officer at the address listed above.

CONTESTING RECORDS PROCEDURES:

NARA rules for contesting the contents and appealing initial determinations are found in 36 CFR part 1202.

RECORDS SOURCE CATEGORIES:

Information in these reasonable accommodation files is obtained from NARA employees, applicants, and any family member, health professional, or representative of a NARA employee or applicant, who request such accommodation under the Rehabilitation Act.

[FR Doc. 2012-24312 Filed 10-2-12; 8:45 am]

BILLING CODE 7515-01-P